DEPARTMENT OF COMMERCE

International Trade Administration

[A-552-802]

Certain Frozen Warmwater Shrimp From the Socialist Republic of Vietnam: Extension of Time Limit for Final Results of Antidumping Duty Administrative Review

AGENCY: Import Administration, International Trade Administration, Department of Commerce.

SUMMARY: The Department of Commerce (“Department”) is extending the time limit for the final results of the administrative review of certain frozen warmwater shrimp (“shrimp”) from the Socialist Republic of Vietnam (“Vietnam”). The review covers the period February 1, 2009, through January 31, 2010.

DATES: Effective Date: August 11, 2011.

FOR FURTHER INFORMATION CONTACT: Susan Pulongbarit, Paul Walker, or Jerry Huang, AD/CVD Operations, Office 9, Import Administration, International Trade Administration, U.S. Department of Commerce, 14th Street and Constitution Avenue, NW., Washington, DC 20230; telephone: (202) 482-4031, (202) 482-0413, or (202) 482-4047, respectively.

Background

On March 4, 2011, the Department published the preliminary results of the review of shrimp from Vietnam. See Certain Frozen Warmwater Shrimp From the Socialist Republic of Vietnam: Preliminary Results, Partial Rescission, and Request for Revocation, In Part, of the Fifth Administrative Review, 76 FR 12054 (March 4, 2011). The final results are currently due no later than August 16, 2011. See Certain Frozen Warmwater Shrimp from the Socialist Republic of Vietnam: Extension of Final Results of Antidumping Duty Administrative Review, 76 FR 36519 (June 22, 2011).

Statutory Time Limits

In antidumping duty administrative reviews, section 751(a)(3)(A) of the Tariff Act of 1930, as amended (“the Act”), requires the Department to make a final determination in an administrative review of an antidumping duty order within 120 days after the date on which the preliminary results are published. However, if it is not practicable to complete the review within this time period, section 751(a)(3)(A) of the Act allows the Department to extend the 120-day period to 180 days after the preliminary results if it determines it is not practicable to complete the review within the foregoing time period.

Extension of Time Limit for Final Results of Review

We determine that it is not practicable to complete the final results of this administrative review within the 120-day time limit, as currently extended, because the Department requires additional time to analyze issues in case and rebuttal briefs submitted by parties, including comments on surrogate country selection, the wage rate calculation, and shrimp surrogate value.

Therefore, in accordance with section 751(a)(3)(A) of the Act, the Department is extending the time period for completion of the final results of this review, which is currently due on August 16, 2011, by 15 days to 180 days after the date on which the preliminary results were published. Therefore, the final results are now due no later than August 31, 2011.

We are issuing and publishing this notice in accordance with sections 751(a)(3)(A) and 777(i) of the Act.

Dated: August 5, 2011.
Christian Marsh,
Deputy Assistant Secretary for Antidumping and Countervailing Duty Operations.

[FR Doc. 2011-20435 Filed 8-10-11; 8:45 am]

BILLING CODE 3510-DS-P